DEPARTMENT OF ENERGY

Federal Energy Regulatory Commission

[Project No. 2850-023]

Hampshire Paper Company, Inc., KE Emeryville, LLC; Notice of Application for Transfer of License and Soliciting Comments, Motions To Intervene, and Protests

On October 24, 2016, Hampshire Paper Company, Inc. (transferor) and KE Emeryville, LLC (transferee) filed an application for the transfer of license of the Emeryville Hydroelectric Project No. 2850. The project is located on the Oswegatchie River in St. Lawrence County, New York. The project does not occupy Federal lands.

The applicants seek Commission approval to transfer the license for the Emeryville Hydroelectric Project from Hampshire Paper Company, Inc. to KE Emeryville, LLC.

Applicants Contact: For transferor: Mr. Charles Wemyss, Hampshire Paper Company, Inc., c/o Pierce Atwood, LLP, 254 Commercial Street, Portland, ME 04101, Email: cwemyss@oswpower.com and Mr. Christopher Howard, Pierce Atwood, LLP, Merrill's Wharf, 245 Commercial Street, Portland, ME 04101, Email: choward@pierceatwood.com. For transferee: Mr. Frédéric Boucher, KE Emeryville, LLC, 37 Alfred A. Plourde Parkway, Suite 2, Lewiston, ME 04240, Email: Frederic.boucher@kruger.com and Ms. Heather J. Haney, Kaplan Kirsch & Rockwell, 1675 Broadway, Suite 2300, Denver, CO 80202, Email: hhaney@kaplankirsch.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2850-023.

Dated: November 7, 2016.
Kimberly D. Bose,
Secretary.

[FR Doc. 2016-27381 Filed 11-14-16; 8:45 am]

BILLING CODE 6717-01-P